ENVIRONMENTAL PROTECTION AGENCY

[ER-FRL-6649-8]

Notice of Intent To Prepare an Environmental Impact Statement (EIS) on the Federal Funding, Construction, Operation and Monitoring of the Restoration Project Titled: Mississippi River Reintroduction Into Bayou Lafourche

AGENCY: Region 6 of the U.S. Environmental Protection Agency (EPA).

ACTION: Issuance of Notice of Intent to prepare an Environmental Impact Statement (EIS).

SUMMARY: EPA Region 6 is preparing an EIS on the proposed Mississippi River Reintroduction Into Bayou Lafourche project. The proposed project is intended to enhance freshwater flows in Bayou Lafourche to nourish and protect marshes of the Barataria and Terrebonne Basins and meet human water supply needs. EPA has determined that the proposed multiple use and multiple benefit wetlands restoration effort is a Major Federal Action significantly affecting the human environment. The purpose of the EIS is to provide information and analysis for decisions on the project in accordance with the policies and purposes of the National Environmental Policy Act.

SUPPLEMENTARY INFORMATION: The Coastal Wetland Planning, Protection, and Restoration Act (CWPPRA), Pub. L. 101-646, provides funding for projects intended to restore and protect sensitive Louisiana coastal areas and establishes a multi-agency task force to consider, develop, and implement such projects. The Mississippi River Reintroduction Into Bayou Lafourche is one such proposed project. The EPA is designated the Federal member of the CWPPRA Task Force to carry out the project. As proposed, the project would significantly increase the flow of water from the Mississippi River into Bayou Lafourche, historically a natural distributary channel of the River. By human action, the Bayou was cut off from the River with construction of the existing flood protection levee. Over time, it was recognized that precipitation alone into the bayou system was not adequate to meet the human or natural ecosystem needs. The project proposes to significantly increase Mississippi River water flow through a structure constructed through or over the flood protection levee of the River at Donaldsonville, Louisiana. The water would then flow down the bayou and connected waterways toward the Gulf of Mexico and into adjacent wetlands, increasing input of freshwater, nutrients and some sediments. Portions of the Ascension, Assumption, Lafourche, and Terrebonne Parishes are included in the proposed project area. The proposed project also includes installation of emergency water level management measures in the bayou such as inflatable weirs. Drainage systems associated with the bayou will be analyzed for impacts. Evaluation studies carried out for use in project development included alternative water sources; existing bayou conditions and basic reintroduction scenarios; surveys of elevations and cross-sections; hydrologic modeling of flows and of salinity; baseline ecological field studies; surveys of flora and fauna of bayou; transportation and utilities infrastructure; potential dredging options; value-engineering study; and cost evaluations. Impacts on the natural and the human environment, including economics and culture, will be evaluated in the EIS.

Alternative Actions: The proposed action includes significantly increasing Mississippi River flows into Bayou Lafourche through a head works structure at the head of Bayou Lafourche. Alternatives to be considered include an array of pumping station and siphon configurations, numerous conveyance channel improvements, and, an alternative channel alignment upstream of Donaldsonville. The EPA is seeking public input on the proposed alternatives and any possible new alternatives.

Public Scoping Meetings: The EPA will hold public meetings at several locations along the Bayou to receive public input on the scope of issues to be addressed in the Draft EIS and to identify significant issues associated with the proposed project. Interested individuals, groups, agencies and public officials will be encouraged to participate. Meeting locations and dates include: South Central Plan Commission Building, Gray LA, 6:30 p.m., April 22; Central Catholic High School Gymnasium, Donaldsonville LA, 6:30 p.m., April 26; Larose Civic Center, Larose LA, 6:30 p.m., April 27; Napoleonville Civic Center, Napoleonville LA, 12:30 p.m., April 28; Municipal Auditorium, Thibodaux LA, 6:30 p.m., April 28. Notices will be placed in regional, local and periodic newspapers thirty days in advance. Information will be provided for potential newspaper, public radio and television announcements.

DATES: The estimated date for release of the Draft EIS is Fall, 2005. EPA will publish a Notice of Availability (NOA) in the Federal Register stating where the Draft EIS will be available for review, the date of Public Hearing on the Draft EIS and a deadline for submission of written comments.

For Further Information, To Submit Scoping Comments, or To Be Placed on the EIS Mailing List, Contact: Ms. Jeanene Peckham,U.S. EPA, Water Quality Protection Division Field Office, 707 Florida Blvd, Suite B-21, Baton Rouge, LA, 70801. Telephone: 225-389-0736; or e-mail: peckham.jeanene@epa.gov.

Responsible Official: Richard E. Greene, Regional Administrator.

Dated: March 17, 2004.
Anne Norton Miller,
Director, OFA.

[FR Doc. 04-6471 Filed 3-22-04; 8:45 am]

BILLING CODE 6560-50-P